DEPARTMENT OF JUSTICE

National Institute of Corrections

Solicitation for a Cooperative Agreement: To Develop a Series of Papers on Parole

AGENCY: National Institute of Corrections, Department of Justice.

ACTION: Solicitation for a Cooperative Agreement.

SUMMARY: The National Institute of Corrections (NIC) is soliciting proposals from organizations, groups or individuals who would like to enter into a cooperative agreement with NIC to develop a series of five papers related to parole with a primary audience of parole board members, parole staff, governors, appointing authorities, and related criminal justice agencies. The five papers will be developed over an eighteen month time. The initial paper will address core competencies for parole board members and executive parole staff in paroling authorities. Additional topics for this series will be determined by NIC and the vendor.

Project Goal: The overall goal of the initial paper is the development of a document on core competencies for parole board members and executive staff. This document will address the following:

Describe the competencies needed to be a parole board member, parole chair and executive parole staff;

Clarify how the competencies relate to the role of parole with other stakeholders within the criminal justice systems;

Describe the organizational structures within the parole office that support the development and operation of competencies;

Examine how competencies promote the use of EBP in parole and revocation decision making;

Illustrate how governors, appointing authorities, and parole boards can use the competencies to make selection and hiring decisions.

The core competencies must conform to the principles presented in the documents “Comprehensive Framework for Paroling Authorities in an Era of Evidence-Based Practices”, the “Correctional Leadership Competencies for the 21st Century for Executives and Senior-Level Leaders”, and the “Correctional Leadership Competencies for the 21st Century for Manager and Supervisor Levels”. These documents can be found at the following links: http://nicic.org/Downloads/PDF/Library/022906.pdf (NIC Accession no. 022906), http://www.nicic.org/pubs/2005/020474.pdf (NIC Accession no. 020474) and http://nicic.org/Downloads/PDF/Library/020475.pdf (NIC Accession no. 020475).

DATES: Applications must be received by 4 p.m. EDT on August 20, 2008.

ADDRESSES: Mailed applications must be sent to: Director, National Institute of Corrections, 320 First Street, NW., Room 5007, Washington, DC 20534.

Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: All technical or programmatic questions concerning this announcement should be directed to Carla Smalls, Correctional Program Specialist, National Institute of Corrections. She can be reached by e-mail at cjsmalls@bop.gov or to George M. Keiser, Chief, Community Corrections Division, National Institute of Corrections. He can be reached by e-mail at gkeiser@bop.gov.

SUPPLEMENTARY INFORMATION: Background: Parole can be defined as both a procedure by which a board administratively releases inmates from prison as well as a provision for post-release supervision. For our discussion, parole is defined as the release of an offender from imprisonment to the community by a releasing authority (parole board or paroling authority) prior to the expiration of the offender's sentence, subject to conditions imposed by the releasing authority. Revocation is the action of a releasing authority removing a person from parole status in response to a violation of conditions.

As articulated by Nancy M. Campbell in the “Comprehensive Framework for Paroling Authorities in an Era of Evidence-Based Practices,” one of the key functions of a paroling authority, board members and staff, is directing and facilitating the achievement of desired outcomes through people and resources. Getting the work done through others is a reality for most leaders and managers, and this is particularly true given the structure of parole. Paroling authorities can set the terms and conditions of parole, but they rely on others to implement them. Even in those cases, where the paroling authority and supervision agency are combined, parole board members rely on others to implement the terms and conditions that they set. Effective governors appoint paroling authorities who have both leadership and management skills.

As Jim Collins has said, “First get the right people on the bus.” This is often difficult in the public sector but not impossible. To accomplish the goals of successful reentry and public protection requires an understanding of the pivotal role that parole can play in protecting the public by helping offenders transition and reenter society successfully. Most parole board members are appointed by elected officials and these officials need to understand what skills, knowledge, and attitudes (competencies) the “right people” (parole board members and staff) must possess to be effective in their work.

National Institute of Corrections Experience

Progress to Date: NIC has adopted three documents that can guide the development of core competencies for parole board members and staff. The first two documents, “Correctional Leadership Competencies for the 21st Century for Executives and Senior-Level Leaders” and the “Correctional Leadership Competencies for the 21st Century for Manager and Supervisor Levels” outline core competencies for criminal justice managers. The third document, “Comprehensive Framework for Paroling Authorities in an Era of Evidence-Based Practices” describes the overarching visionary plan that paroling authorities will need for a future of well trained board members, using evidence based practices within agencies that have sufficient staff and other resources to effectively support the release and revocation of offenders. A review of these three documents provides a template for the development of a paper outlining the skills, knowledge, and attitudes that staff and board members should possess.

Scope of Work: Under this first phase of the cooperative agreement, the single major area of work to be completed is the development of a paper approximately 50 pages in length that presents the core competencies for parole board members and executive parole staff. It is anticipated that this paper will be prototypical of the remaining four papers.

Description: This initial document on parole will examine the skills, knowledge and abilities that parole board members and executive staff must possess to be effective in performing their work responsibilities within the criminal justice system.

Work to be performed: The provider shall consult with the Correctional Program Specialist (CPS) assigned to manage the cooperative agreement to ensure understanding of, and agreement on, the scope of work to be performed; submit a detailed work plan with time lines for accomplishing project activities to CPS for approval prior to any work being performed under this agreement; designate a point of contact, which will serve as the conduit of information and work experience between the CPS and the awardee; and review pertinent NIC documents to include training programs in the development of the core competencies.

Deliverables: The provider shall describe methodology used to produce papers; outline a management plan to include timelines for the development of the papers; produce five papers; and recommend distribution plan.

Document Preparation: For all awards in which a document will be a deliverable, the awardee must follow the Guidelines for Preparing and Submitting Manuscripts for Publication as found in the “General Guidelines for Cooperative Agreements” which will be included in the award package.

Required Expertise: The successful applicant will need skills, abilities and knowledge in the areas of knowledge of the criminal justice system; knowledge of the role of parole and its function within the criminal justice system; ability to conduct research and relate these findings in a non-technical manner; skilled in conducting job task analyses that relate to job competencies; knowledge of evidence-based practices and offender transition, and how these areas relate to the parole process; and effective written and oral communication skills.

Application Requirements: Applications should be concisely written, typed double spaced and referenced to the project by the “NIC Application Number” and Title provided in this announcement. The package must include: OMB Standard Form 424, Application for Federal Assistance, a cover letter that identifies the audit agency responsible for the applicant's financial accounts as well as the audit period of fiscal year that the applicant operates under (e.g., July 1 through June 30), and an outline of projected costs. The following additional forms must also be included: OMB Standard Form 424A, Budget Information—Non-Construction Programs, OMB Standard Form 424B, Assurances—Non-Construction Programs (available at www.grants.gov) and DOJ/NIC Certification Regarding Lobbying; Debarment, Suspension and Other Responsibility Matters; and the Drug-Free Workplace Requirements (available at http://www.nicic.gov/Downloads/PDF/certif-frm.pdf.)

Applications may be submitted in hard copy, or electronically via http://www.grants.gov. If submitted in hard copy, there needs to be an original and six copies of the full proposal (program and budget narratives, application forms and assurances). The original should have the applicant's signature in blue ink.

Telephone Conference: A telephone conference will be conducted for persons receiving this solicitation and having a serious intent to respond on July 30, 2008 at 2:00 pm EDT. In this conference, the NIC project manager will respond to questions regarding the solicitation and expectation of work to be performed. Please notify Carla Smalls electronically (cjsmalls@bop.gov) by 12 noon EDT on July 25, 2008, regarding your interest in participating in the conference. You will be provided with a call-in number and instructions. In addition, NIC project managers will post answers to questions received from potential applicants on its Web site for the six weeks in which the solicitation is open to the public.

Authority: Public Law 93-415.

Funds Available: NIC is seeking the applicant's best ideas regarding accomplishment of the scope of work and the related costs for achieving the goals of this solicitation. The final budget and award amount will be negotiated between NIC and the successful applicant. Funds may only be used for the activities that are linked to the desired outcome of the project. Following award of the cooperative agreement, NIC will work with the awardee to refine the identification of additional topics, plus the review and final acceptance of each deliverable. A specific funding amount is not disclosed. Both the cost and the development strategy are to be completed. Selection will be based on a determination of the best value for the government to achieve the goals of the award.

This project will be a collaborative venture with the NIC Community Corrections Division.

Eligibility of Applicants: An eligible applicant is any public or private agency, educational institution, organization, individual or team with expertise in the described areas.

Review Considerations: Applications received under this announcement will be subjected to a 3-to-5 person NIC Peer Review Process.

Number of Awards: One.

NIC Application Number: 08C79.

This number should appear as a reference line in the cover letter, in box 4a of Standard Form 424, and outside of the envelope in which the application is sent.

Catalog of Federal Domestic Assistance Number: 16.601.

Executive Order 12372: This project is not subject to the provisions of Executive Order 12372.

Thomas J. Beauclair,
Deputy Director, National Institute of Corrections.

[FR Doc. E8-16684 Filed 7-21-08; 8:45 am]

BILLING CODE 4410-36-P